DEPARTMENT OF COMMERCE

National Oceanic and Atmospheric Administration

RIN 0648-XA303

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration. In support of research conducted by the Coonamessett Farm Foundation, Inc. (CFFI), this EFP would grant exemptions from the limited access scallop days-at-sea (DAS) program to allow CFFI to conduct tests with its low profile excluder dredge (CFFI dredge). In addition, limited access and limited access general category (LAGC) vessels would be authorized to temporarily retain fish that would otherwise be restricted by commercial fishing regulations. Such regulations include minimum fish sizes; fish possession limits; species quota closures; prohibited fish species, not including species protected under the Endangered Species Act; and gear-specific fish possession restrictions. The Assistant Regional Administrator has made a preliminary determination that the activities authorized under this EFP would be consistent with the goals and objectives of the Atlantic sea scallop Fishery Management Plan (FMP). However, further review and consultation may be necessary before a final determination is made to issue an EFP.

Regulations under the Magnuson-Stevens Fishery Conservation and Management Act require publication of this notification to provide interested parties the opportunity to comment on applications for proposed EFPs.

DATES: Comments must be received on or before April 4, 2011.

ADDRESSES: You may submit written comments by any of the following methods:

• E-mail: NERO.EFP@noaa.gov. Include in the subject line “Comments on CFFI flounder bycatch EFP.”

• Mail: Patricia A. Kurkul, Regional Administrator, NMFS, NE Regional Office, 55 Great Republic Drive, Gloucester, MA 01930. Mark the outside of the envelope “Comments on CFFI flounder bycatch EFP.”

• Fax: (978) 281-9135.

FOR FURTHER INFORMATION CONTACT: Christopher Biegel, Fisheries Management Specialist, 978-281-9112.

SUPPLEMENTARY INFORMATION: CFFI has been awarded a research grant through the Commercial Fisheries Research Foundation titled, “Testing of a Low Profile Excluder Dredge for Winter Flounder Bycatch Reduction.” The goal of this research is to examine how modifications to the CFFI excluder dredge will impact the bycatch of winter flounder by commercial scallop vessels. The research will consist of three or four trips of 5 to 7 days each, for a total of 21 days, and deploy the CFFI dredge to document the impacts of dredge modifications on catch and bycatch rates. Over the course of the project, there will be 240 tows of less than 30 minutes at 4.5 knots. The vessel is expected to catch the following: Scallops 45,000 lb (20,412 kg); winter flounder 4,000 lb (1,815 kg); yellowtail flounder 300 lb (136 kg); monkfish 2,000 lb (907 kg); and little skate 8,000 lb (3,629 kg). All catch will be discarded after standard species composition, size, and catch rate data have been collected. The gear testing would occur between April 2011 and April 2012, in open areas of offshore of Massachusetts and Rhode Island at a depth of 15 to 30 fathoms (30-60 m), including Cape Cod Bay, South Channel, and Southern New England.

CFFI submitted a complete EFP application on February 4, 2011, requesting exemption allowing commercial fishing vessels to fish outside of the limited access Atlantic sea scallop DAS regulations at 50 CFR 648.53(b) and to temporarily retain fish that would otherwise be restricted by commercial fishing regulations. Any fishing activity conducted outside the scope of the exempted fishing activity would be prohibited.

Authority: 16 U.S.C. 1801 et seq.

Dated: March 15, 2011.
Margo Schulze-Haugen,
Acting Director, Office of Sustainable Fisheries, National Marine Fisheries Service.

[FR Doc. 2011-6443 Filed 3-17-11; 8:45 am]

BILLING CODE 3510-22-P